FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 8, 2006.

A. Federal Reserve Bank of Chicago (Patrick M. Wilder, Assistant Vice President) 230 South LaSalle Street, Chicago, Illinois 60690-1414:

1. The Hill Family, consisting of David Hill, Ellsworth, Iowa; Heather Miller, Urbandale, Iowa; and Heidi Loverude, Urbandale, Iowa, acting as a group in concert, to retain voting shares of Freedom Holdings Company, and thereby indirectly retain voting shares of Freedom Financial Bank, both of West Des Moines, Iowa.

B. Federal Reserve Bank of St. Louis (Glenda Wilson, Community Affairs Officer) 411 Locust Street, St. Louis, Missouri 63166-2034:

1. Lori and Craig Glattly, both of Lake Forest, Illinois; to acquire shares of Texico Bancshares Corporation, and thereby indirectly acquire voting shares of Texico State Bank, both of Texico, Illinois

2. Dearmin Investment Holdings Business, L.P., Odon, Indiana; to acquire voting shares of Dearmin Bancorp, Inc., and thereby indirectly acquire voting shares of The First National Bank of Odon, both of Odon, Indiana.

Board of Governors of the Federal Reserve System, August 21, 2006.
Robert deV. Frierson,
Deputy Secretary of the Board.

[FR Doc. E6-14066 Filed 8-23-06; 8:45 am]

BILLING CODE 6210-01-S